DEPARTMENT OF ENERGY

Federal Energy Regulatory Commission

Combined Notice of Filings #1

Take notice that the Commission received the following electric corporate filings:

Docket Numbers: EC22-4-000.

Applicants: Sagebrush, a California partnership, Sagebrush Line, LLC.

Description: Application for Authorization Under Section 203 of the Federal Power Act of Sagebrush, a California partnership, et al.

Filed Date: 10/18/21.

Accession Number: 20211018-5099.

Comment Date: 5 p.m. ET 11/8/21.

Docket Numbers: EC22-5-000.

Applicants: Rev Renewables, LLC.

Description: Application for Authorization Under Section 203 of the Federal Power Act of Rev Renewables, LLC.

Filed Date: 10/18/21.

Accession Number: 20211018-5106.

Comment Date: 5 p.m. ET 11/8/21.

Docket Numbers: EC22-6-000.

Applicants: DESRI Holdings, L.P., Airport Solar LLC, Assembly Solar, LLC, Assembly Solar I, LLC, Assembly Solar II, LLC, Assembly Solar III, LLC, Balko Wind, LLC, Balko Wind Transmission, LLC, Big River Solar, LLC, Cuyama Solar, LLC, Cove Mountain Solar, LLC, Cove Mountain Solar 2, LLC, Dressor Plains Solar, LLC, Drew Solar, LLC, Drew Solar-CA, LLC, DWW Solar II, LLC, Gray Hawk Solar, LLC, Hecate Energy Highland LLC, Hunter Solar LLC, Iris Solar, LLC, MS Solar 2, LLC, North Star Solar PV LLC, Portal Ridge Solar B, LLC, Portal Ridge Solar C, LLC, Prairie State Solar, LLC, Rancho Seco Solar, LLC, Rancho Seco Solar II LLC, Red Horse III, LLC, Red Horse Wind 2, LLC, Sigurd Solar LLC, St. James Solar, LLC, TPE Alta Luna, LLC, Willow Springs Solar, LLC, 62SK 8ME LLC, 63SU 8ME LLC.

Description: Joint Application for Authorization Under Section 203 of the Federal Power Act of DESRI Holdings, L.P., et al.

Filed Date: 10/15/21.

Accession Number: 20211015-5216.

Comment Date: 5 p.m. ET 11/5/21.

Take notice that the Commission received the following Complaints and Compliance filings in EL Dockets:

Docket Numbers: EL22-3-000.

Applicants: Flint Mine Solar LLC v. New York Independent System Operator, Inc.

Description: Complaint of Flint Mine Solar LLC v. Independent System Operator, Inc.

Filed Date: 10/14/21.

Accession Number: 20211014-5172,

Comment Date: 5 p.m. ET 10/25/21,

Take notice that the Commission received the following electric rate filings:

Docket Numbers: ER16-323-009.

Applicants: Ohio Valley Electric Corporation.

Description: Supplement to December 18, 2020 Triennial Market Power Analysis for Central Region of Ohio Valley Electric Corporation.

Filed Date: 10/6/21.

Accession Number: 20211006-5140.

Comment Date: 5 p.m. ET 10/27/21.

Docket Numbers: ER22-126-000.

Applicants: Southwest Power Pool, Inc.

Description: § 205(d) Rate Filing: 3862&3863 SWEPCO/ETEC/Rayburn Early Termination Ag/Letter Ag to be effective 12/18/2021.

Filed Date: 10/18/21.

Accession Number: 20211018-5051.

Comment Date: 5 p.m. ET 11/8/21.

Docket Numbers: ER22-127-000.

Applicants: PJM Interconnection, L.L.C.

Description: Tariff Amendment: Notice of Cancellation of Interim ISA, SA No. 5848; Queue No. AD1-087/AD2-202 to be effective 10/11/2021.

Filed Date: 10/18/21.

Accession Number: 20211018-5073.

Comment Date: 5 p.m. ET 11/8/21.

Docket Numbers: ER22-128-000.

Applicants: American Electric Power Service Corporation, Ohio Power Company, AEP Ohio Transmission Company, Inc., PJM Interconnection, L.L.C.

Description: § 205(d) Rate Filing: American Electric Power Service Corporation submits tariff filing per 35.13(a)(2)(iii: AEP submits Two FAs re: ILDSA SA No. 1336 to be effective 12/18/2021.

Filed Date: 10/18/21.

Accession Number: 20211018-5074.

Comment Date: 5 p.m. ET 11/8/21.

Docket Numbers: ER22-129-000.

Applicants: Massachusetts Electric Company.

Description: Tariff Amendment: 2020-10-18 Notice of Cancellation of Service Agreement No. CRA-MECO-12 to be effective 12/18/2021.

Filed Date: 10/18/21.

Accession Number: 20211018-5078.

Comment Date: 5 p.m. ET 11/8/21.

Docket Numbers: ER22-130-000.

Applicants: PJM Interconnection, L.L.C.

Description: § 205(d) Rate Filing: Original ISA, Service Agreement No. 6189; Queue No. AD2-009 to be effective 9/16/2021.

Filed Date: 10/18/21.

Accession Number: 20211018-5089.

Comment Date: 5 p.m. ET 11/8/21.

Docket Numbers: ER22-131-000.

Applicants: Citizens Sunrise Transmission LLC.

Description: § 205(d) Rate Filing: Annual Operating Cost True-Up Adjustment Informational Filing 2021 to be effective 1/1/2022.

Filed Date: 10/18/21.

Accession Number: 20211018-5092.

Comment Date: 5 p.m. ET 11/8/21.

Docket Numbers: ER22-132-000.

Applicants: Citizens Sycamore-Penasquitos Transmission LLC.

Description: § 205(d) Rate Filing: Annual Operating Cost True-Up Adjustment Informational to be effective 1/1/2022.

Filed Date: 10/18/21.

Accession Number: 20211018-5094.

Comment Date: 5 p.m. ET 11/8/21.

Docket Numbers: ER22-133-000.

Applicants: San Diego Gas & Electric Company.

Description: Informational Filing of Transmission Owner Rate Appendix XII [Cycle 4] of San Diego Gas & Electric Company.

Filed Date: 10/14/21.

Accession Number: 20211014-5173.

Comment Date: 5 p.m. ET 11/4/21.

Docket Numbers: ER22-134-000.

Applicants: PacifiCorp.

Description: § 205(d) Rate Filing: BPA NITSA—(SE Idaho Area) Rev 7 to be effective 10/1/2021.

Filed Date: 10/18/21.

Accession Number: 20211018-5105.

Comment Date: 5 p.m. ET 11/8/21.

Docket Numbers: ER22-135-000.

Applicants: PJM Interconnection, L.L.C.

Description: § 205(d) Rate Filing: Revisions to Sch. 12-Appx A: Sept. 2021 RTEP, 30-Day Comment Period Requested to be effective 1/16/2022.

Filed Date: 10/18/21.

Accession Number: 20211018-5127.

Comment Date: 5 p.m. ET 11/8/21.

Docket Numbers: ER22-136-000.

Applicants: Sagebrush Line, LLC.

Description: Baseline eTariff Filing: Facilities Use Agreements to be effective 12/20/2021.

Filed Date: 10/18/21.

Accession Number: 20211018-5128.

Comment Date: 5 p.m. ET 11/8/21.

Take notice that the Commission received the following electric securities filings:

Docket Numbers: ES22-12-000; ES22-13-000.

Applicants: Delmarva Power & Light Company, Potomac Electric Power Company, Delmarva Power & Light Company, Potomac Electric Power Company.

Description: Application Under Section 204 of the Federal Power Act for Authorization to Issue Securities of Delmarva Power & Light Company, et al.

Filed Date: 10/15/21.

Accession Number: 20211015-5218.

Comment Date: 5 p.m. ET 11/5/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 18, 2021.
Debbie-Anne A. Reese,
Deputy Secretary.

[FR Doc. 2021-23113 Filed 10-21-21; 8:45 am]

BILLING CODE 6717-01-P